DEPARTMENT OF ENERGY

Federal Energy Regulatory Commission

[Docket No. RP00-247-000]

Colorado Interstate Gas Company; Notice of Tariff Filing

April 18, 2000.

Take notice that on April 13, 2000, Colorado Interstate Gas Company (CIG), tendered for filing to become part of its FERC Gas Tariff, First Revised Volume No. 1, the proposed tariff sheets listed on the attached Appendix A to be effective June 1, 2000.

CIG states that it is making this filing to improve the imbalance management options available to its Shippers. Such improvements include a Shipper option to trade its imbalances during the month after flow and to have its imbalances posted to insure that other Shippers are aware of the availability of such imbalances for trade. Further, Shippers will be able to complete trade electronically. Finally, Shippers may also elect not to trade and to have their imbalances cashed out.

As part of this proposal, CIG is also proposing to eliminate the imbalance payback period that is currently available during the first week of the month following the transportation activities causing the imbalance. However, CIG will support imbalance trades through the end of the month following flow. CIG does not propose to modify its existing imbalance netting or cash out procedures. However, to preclude price arbitrage on the imbalance quantities, imbalances remaining at the end of the trade period which are due to CIG, will be cashed out at the higher of the production month's or the trading month's Cash Out Index Price, and remaining imbalance quantities which are due the Shipper, will be cashed out at the lesser of the production month's or the trading month's Cash Out Index Price.

CIG further states that copies of this compliance filing have been served on CIG's jurisdictional customers and public bodies.

Any person desiring to be heard or to protest said filing should file a motion to intervene or a protest with the Federal Energy Regulatory Commission, 888 First Street NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-10107 Filed 4-21-00; 8:45 am]

BILLING CODE 6717-01-M